DEPARTMENT OF TRANSPORTATION

Federal Highway Administration

Environmental Impact Statement: City of Council Bluffs, Pottawattamie County, IA

AGENCY: Federal Highway Administration (FHWA), Iowa Department of Transportation (Iowa DOT), City of Council Bluffs and Pottawattamie County.

ACTION: Notice of intent.

SUMMARY: The FHWA and the Iowa DOT are issuing this notice to advise the public that an environmental impact statement (EIS) will be prepared for a proposed transportation project in Council Bluffs, Pottawattamie County, Iowa.

FOR FURTHER INFORMATION CONTACT: Michael LaPietra, Environment and Realty Manager, FHWA Iowa Division Office, 105 Sixth Street, Ames, IA 50010, Phone 515-233-7302; or James P. Rost, Director, Office of Location and Environment, Iowa Department of Transportation, 800 Lincoln Way, Ames, IA 50010, Phone 515-239-1225.

SUPPLEMENTARY INFORMATION:

Electronic Access

An electronic copy of this document is available for free download from the Federal Bulletin Board (FBB). The FBB is a free electronic bulletin board service of the Superintendent of Documents, U.S. Government Printing Office (GPO).

The FBB may be accessed in four ways: (1) Via telephone in dial-up mode or via the Internet through (2) telnet, (3) FTP, and (4) the World Wide Web.

For dial-in mode a user needs a personal computer, modem, telecommunications software package and telephone line. A hard disk is recommended for file transfers.

For Internet access a user needs Internet connectivity. Users can telnet or FTP to: fedbbs.access.gpo.gov. Users can access the FBB via the World Wide Web at http://fedbbs.access.gpo.gov.

User assistance for the FBB is available from 7 a.m. until 5 p.m., Eastern Standard Time (EST), Monday through Friday (except federal holidays) by calling the GPO Office of Electronic Information Dissemination Services at 202-512-1530, toll-free at 888-293-6498; sending an e-mail to gpoaccess@gpo.gov; or sending a fax to 202-512-1262.

Access to this notice is also available to Internet users through the Federal Register's home page at http://www.nara.gov/fedreg.

Project Background

The FHWA, in cooperation with the Iowa Department of Transportation (Iowa DOT), the City of Council Bluffs, and Pottawattamie County, will be preparing an EIS for the proposed East Beltway. The proposed project includes roadway improvements between US 6/225th Street and IA 92/Orchard Road, and improvements on the connecting roadways of Steven Lane and Greenview Road.

Council Bluffs and Pottawattamie County have developed a joint plan (“Two Mile Limit Study”) for development and infrastructure needs east of Council Bluffs to accommodate projected development growth in the metropolitan area. From the Two Mile Limit Study, the East Beltway was identified as an infrastructure need for the development area. The proposed East Beltway will provide a north/south route east of I-80 and provide access to existing and future development within the Little Pony Creek drainage basin and parts of unincorporated Pottawattamie County. The proposed project would also provide system continuity for the Council Bluffs/Omaha area by providing a connection between US 6 and IA 92. The proposed East Beltway would relieve congestion on I-80 and the southeast I-29/I-80 systems interchange.

Potential alternatives and combinations thereof will include but are not limited to: (1) Taking no action, i.e., the No-Build Alternative; (2) strategies to better manage transportation demand; (3) improving existing roadways, pedestrian walkways, and bikeways; and (4) constructing a new roadway connection.

The build alternative will include consideration of various alignments and grades in order to minimize potential environmental impacts. Letters describing the proposed action and soliciting comments will be sent to appropriate Federal, State, and local agencies, and to private organizations and citizens who have previously expressed or are known to have interest in the proposed project.

The EIS will be initiated with a scoping process. The scoping process will include a program of public outreach and agency coordination that will be conducted over the next several months in order to elicit input on the project purpose and need, potential alternatives, significant and insignificant issues, and collaborative methods for analyzing transportation alternatives and environmental impacts.

As part of the scoping process, several public meetings will be held in Council Bluffs or unincorporated Pottawattamie County, to meet with federal, state, and local agencies, as well as private individuals and organizations concerned with the project. In addition, a public hearing will be held in connection with the circulation of the draft EIS (DEIS). Public notice will be given concerning the date and location of the public meeting(s) and public hearing.

The information gained during the scoping process will be widely disseminated and used to guide the development of the EIS. All comments and input received during the scoping and subsequent steps of the EIS process will be considered and documented. Beginning with scoping, continuous and regularly public involvement and agency coordination will continue throughout the preparation of the EIS.

To ensure that a full range of issues are addressed in relation to the proposed action and that all significant issues are identified, all interested parties are invited to submit comments and suggestions. Comments or questions concerning the proposed action and the EIS should be directed to the FHWA or Iowa Department of Transportation at the address provided on page one in the section titled FOR FURTHER INFORMATION CONTACT.

(Catalog of Federal Domestic Assistance Program Number 20.205, Highway Planning and Construction. The regulations implementing Executive Order 12372 regarding intergovernmental consultation on Federal programs and activities apply to this program.)

(Authority: 23 U.S.C. 315; 49 CFR 1.48)

Dated: October 29, 2007.
Philip E. Barnes,
Division Administrator, FHWA, Iowa Division.

[FR Doc. E7-21669 Filed 11-2-07; 8:45 am]

BILLING CODE 4910-22-P